DEPARTMENT OF HOMELAND SECURITY

Coast Guard

33 CFR Part 117

Drawbridge Operation Regulations

CFR Correction

In Title 33 of the Code of Federal Regulations, Parts 1 to 124, revised as of July 1, 2007, in part 117, under ILLINOIS, on page 587, reinstate § 117.397 to read as follows:

§ 117.397 Wabash River.

The draws of each bridge across the Wabash River shall open on signal if at least 72 hours notice is given.

[FR Doc. 08-55502 Filed 1-28-08; 8:45 am]

BILLING CODE 1505-01-D